DEPARTMENT OF COMMERCE

National Oceanic and Atmospheric Administration

[I.D. 121102A]

Marine Fisheries Advisory Committee; Public Meetings

AGENCY: National Marine Fisheries Service (NMFS), National Oceanic and Atmospheric Administration (NOAA), Commerce.

ACTION: Notice of public meetings.

SUMMARY: Notice is hereby given of meetings of the Marine Fisheries Advisory Committee (MAFAC) from January 7 through 10, 2003.

DATES: The meetings are scheduled as follows:

January 7, 2003, 8 a.m. - 5:30 p.m.

January 8, 2003, 8:30 a.m. - 5:30 p.m.

January 9, 2003, 9 a.m. - 5 p.m.

January 10, 2003, 8 a.m. - 12 noon

ADDRESSES: The meetings will be held at Hotel Washington, 515 15th Street, NW, Washington D.C. Requests for special accommodations may be directed to MAFAC, Office of Constituent Services, NMFS, 1315 East-West Highway, Silver Spring, MD 20910.

FOR FURTHER INFORMATION CONTACT: Laurel Bryant, Designated Federal Official; telephone: (301) 713-9501 ext. 171.

SUPPLEMENTARY INFORMATION: As required by section 10(a) (2) of the Federal Advisory Committee Act, 5 U.S.C. App. (1982), notice is hereby given of meetings of MAFAC. MAFAC was established by the Secretary of Commerce (Secretary) on February 17, 1972, to advise the Secretary on all living marine resource matters that are the responsibility of the Department of Commerce. This Committee ensures that the living marine resource policies and programs of the Nation are adequate to meet the needs of commercial and recreational fisheries, and of environmental, state, consumer, academic, tribal, and other national interests.

Matters to Be Considered

January 7, 20003

Orientation and program briefings for new MAFAC members.

January 8, 2003

Overview of NOAA Fisheries, including progress toward regulatory streamlining efforts, agency's assessment of its progress in implementing the Sustainable Fishing Act, and progress toward a national bycatch strategy. The key challenges and priorities for 2003 will be discussed along with MAFAC's role in contributing to those priorities. Topics for discussion include reauthorization of the Magnuson-Stevens Fishery Conservation and Management Act(Magnuson-Stevens Act) and various management components such as individual fishing quotas, overcapacity and the national standards under the Magnuson-Stevens Act. In addition, MAFAC will receive a report on a draft technical guidance document for implementing ecosystem management approaches for marine resource management.

January 9, 2003

Committee will review it's operation, policy and structure and address any operational and organizational modifications as well as conduct subcommittee work on identified issues.

January 10, 2003

Committee will make final reports to NOAA Fisheries and adjourn.

Time will be set aside for public comment on agenda items.

Special Accommodations

These meetings are physically accessible to people with disabilities. Requests for sign language interpretation or other auxiliary aids should be directed to MAFAC (see ADDRESSES).

Dated: December 16, 2002.
John Oliver,
Deputy Assistant Administrator for Operations,National Marine Fisheries Service.

[FR Doc. 02-31981 Filed 12-18-02; 8:45 am]

BILLING CODE 3510-22-S